FEDERAL MARITIME COMMISSION

46 CFR Part 503

[Docket No. 15-05]

RIN 3072-AC60

Amendments to Regulations Governing Access to Commission Information and Records; Freedom of Information Act; Withdrawal

AGENCY: Federal Maritime Commission.

ACTION: Direct final rule; withdrawal.

SUMMARY: The Federal Maritime Commission is withdrawing a Direct Final Rule that would have amended its regulations governing access to Commission information and records and its regulations implementing the Freedom of Information Act (FOIA).

DATES: As of September 1, 2015, the direct final rule published July 2, 2015, at 80 FR 37997, is withdrawn.

FOR FURTHER INFORMATION CONTACT: Karen V. Gregory, Secretary, Federal Maritime Commission, 800 North Capitol Street NW., Washington, DC 20573-0001. Phone: (202) 523-5725. Email: secretary@fmc.gov.

SUPPLEMENTARY INFORMATION: On July 2, 2015, the Federal Maritime Commission (FMC or Commission) published a direct final rule (80 FR 37997) amending its regulations governing access to Commission information and records and its regulations implementing the Freedom of Information Act (FOIA). In response to the rule, the Commission received two comments recommending that the Commission extend the administrative appeal deadline. Both commenters, America Rising Advanced Research, a non-profit organization, and the National Archives and Records Administration, Office of Government Information Services (OGIS), suggested that extending the administrative appeal deadline will align the Commission with general agency practices. The Commission agrees, and therefore, is withdrawing its Direct Final Rule published on July 2, 2015 (80 FR 37997), and will issue a new Direct Final Rule to extend the administrative appeal deadline from 10 working days to 30 calendar days.

By the Commission.
Karen V. Gregory,
Secretary.

[FR Doc. 2015-21452 Filed 8-31-15; 8:45 am]

BILLING CODE 6731-AA-P